DEPARTMENT OF COMMERCE

Foreign-Trade Zones Board

[B-29-2014]

Foreign-Trade Zone 72—Indianapolis, Indiana, Authorization of Production Activity, Ingram Micro Mobility/Brightpoint North America L.P. (Kitting of Pedometer Products and Accessories), Plainfield, Indiana

On March 20, 2014, the Indianapolis Airport Authority, grantee of FTZ 72, submitted a notification of proposed production activity to the Foreign-Trade Zones (FTZ) Board on behalf of Ingram Micro Mobility/Brightpoint North America L.P., within Subzone 72S, in Plainfield, Indiana.

The notification was processed in accordance with the regulations of the FTZ Board (15 CFR part 400), including notice in the Federal Register inviting public comment (79 FR 18011-18012, 3-31-2014). The FTZ Board has determined that no further review of the activity is warranted at this time. The production activity described in the notification is authorized, subject to the FTZ Act and the Board's regulations, including Section 400.14.

Dated: July 18, 2014.
Andrew McGilvray,
Executive Secretary.

[FR Doc. 2014-17474 Filed 7-24-14; 8:45 am]

BILLING CODE 3510-DS-P